DEPARTMENT OF TRANSPORTATION

Federal Aviation Administration

14 CFR Part 39

[Docket No. FAA-2020-0970; Project Identifier AD-2020-01359-T; Amendment 39-21305; AD 2020-22-09]

RIN 2120-AA64

Airworthiness Directives; Airbus SAS Airplanes

AGENCY: Federal Aviation Administration (FAA), Department of Transportation (DOT).

ACTION: Final rule; request for comments.

SUMMARY: The FAA is superseding Airworthiness Directive (AD) 2001-16-13, which applied to certain Airbus SAS Model A330 series airplanes. AD 2001-16-13 required a roto-test inspection of fastener holes of certain fuselage joints for cracks, reinforcement of the fuselage between certain frames, and, if necessary, a high frequency eddy current (HFEC) inspection and repair. As published, the applicability of AD 2001-16-13 inadvertently identified the model designations as serial numbers. This document corrects that error. This new AD requires a roto-test inspection of fastener holes of certain fuselage joints for cracks, reinforcement of the fuselage, and, if necessary, an HFEC inspection and repair. The FAA is issuing this AD to address the unsafe condition on these products.

DATES: This AD is effective November 25, 2020.

The Director of the Federal Register approved the incorporation by reference of a certain publication listed in this AD as of November 25, 2020.

The Director of the Federal Register approved the incorporation by reference of a certain other publication listed in this AD as of September 7, 2001 (66 FR 44295, August 23, 2001).

The FAA must receive comments on this AD by December 28, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com. You may view this referenced service information at the FAA, Airworthiness Products Section, Operational Safety Branch, 2200 South 216th St., Des Moines, WA. For information on the availability of this material at the FAA, call 206-231-3195. It is also available on the internet at https://www.regulations.gov by searching for and locating Docket No. FAA-2020-0970.

Examining the AD Docket

You may examine the AD docket on the internet at https://www.regulations.gov by searching for and locating Docket No. FAA-2020-0970; or in person at the Docket Management Facility between 9 a.m. and 5 p.m., Monday through Friday, except Federal holidays. The AD docket contains this AD, any comments received, and other information. The street address for the Docket Operations office is listed above. Comments will be available in the AD docket shortly after receipt.

FOR FURTHER INFORMATION CONTACT: Vladimir Ulyanov, Aerospace Engineer, Large Aircraft Section, International Validation Branch, FAA, 2200 South 216th St., Des Moines, WA 98198; telephone and fax 206-231-3229; email Vladimir.Ulyanov@faa.gov.

SUPPLEMENTARY INFORMATION:

Discussion

The FAA issued AD 2001-16-13, Amendment 39-12382 (66 FR 44295, August 23, 2001) (“AD 2001-16-13”), which applied to certain Model A330 series airplanes. AD 2001-16-13 was prompted by a report that during fatigue testing on the fuselage, cracks were detected in the longitudinal buttstrap at stringer 9, at frame 31, and at frame 37.1. AD 2001-16-13 required a roto-test inspection of fastener holes of certain fuselage joints for cracks, reinforcement of the fuselage between frames 31 and 37.1, and, if necessary, an HFEC inspection and repair. The FAA issued AD 2001-16-13 to address fatigue cracking of the fuselage longitudinal buttstrap, which could result in reduced structural integrity of the fuselage.

Actions Since AD 2001-16-13 Was Issued

Since the FAA issued AD 2001-16-13, the FAA received a report that the applicability of AD 2001-16-13 does not match the applicability of the corresponding Direction Générale de l'Aviation Civile (DGAC) AD: French Airworthiness Directive 2001-075(B), dated March 17, 2001, which is also referred to after this as the Mandatory Continuing Airworthiness Information, or “the MCAI.” The model designations identified in the applicability of the MCAI were inadvertently identified as serial numbers in the applicability of AD 2001-16-13.

You may examine the MCAI in the AD docket on the internet at https://www.regulations.gov by searching for and locating Docket No. FAA-2020-0970.

This AD was prompted by a report of an error in the applicability of AD 2001-16-13. The FAA has determined the applicability must be revised to correct the error. There are no affected U.S. registered airplanes; however, an affected airplane might be imported and placed on the U.S. Register in the future. The FAA is issuing this AD to address fatigue cracking of the fuselage longitudinal buttstrap, which could result in reduced structural integrity of the fuselage.

Since the FAA issued AD 2001-16-13, the FAA has reviewed Airbus Service Bulletin A330-53-3090, Revision 03, dated December 11, 2002 (the FAA referred to Airbus Service Bulletin A330-53-3090, Revision 02, dated January 9, 2001, as the appropriate source of service information for accomplishing the actions required by AD 2001-16-13). Airbus Service Bulletin A330-53-3090, Revision 03, dated December 11, 2002, clarifies certain inspection areas and specifies no additional work is needed for airplanes modified by a previous revision. The FAA has determined Airbus Service Bulletin A330-53-3090, Revision 03, dated December 11, 2002, is an appropriate source of service information for accomplishing the required actions of this AD.

Related IBR Material Under 1 CFR Part 51

Airbus Service Bulletin A330-53-3090, Revision 03, dated December 11, 2002. This service information describes procedures for a roto-test inspection of fastener holes of certain fuselage joints for cracks, reinforcement of the fuselage between frames 31 and 37.1, and, if necessary, an HFEC inspection.

This AD also requires Airbus Service Bulletin A330-53-3090, Revision 02, dated January 9, 2001, which the Director of the Federal Register approved for incorporation by reference as of September 7, 2001 (66 FR 44295, August 23, 2001).

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is issuing this AD because the FAA evaluated all pertinent information and determined the unsafe condition exists and is likely to exist or develop on other products of the same type design.

Requirements of This AD

This AD requires a roto-test inspection of fastener holes of certain fuselage joints for cracks, reinforcement of the fuselage between frames 31 and 37.1, and, if necessary, an HFEC inspection and repair.

FAA's Justification and Determination of the Effective Date

There are currently no domestic operators of these products. Therefore, the FAA finds that notice and opportunity for prior public comment are unnecessary and that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0970; Project Identifier AD-2020-01359-T” at the beginning of your comments. The most helpful comments reference a specific portion of the proposal, explain the reason for any recommended change, and include supporting data. Except for Confidential Business Information (CBI) as described in the following paragraph, and other information as described in 14 CFR 11.35, the FAA will consider all comments received by the closing date and may amend this AD based on those comments.

The FAA will post all comments the FAA receives, without change, to https://www.regulations.gov, including any personal information you provide. The FAA will also post a report summarizing each substantive verbal contact the FAA receives about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to the person identified in the FOR FURTHER INFORMATION CONTACT section. Any commentary that the FAA receives which is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

Currently, there are no affected U.S.-registered airplanes. If an affected airplane is imported and placed on the U.S. Register in the future, the FAA provides the following cost estimates to comply with this AD:

Estimated Costs for Required Actions
Labor cost | Parts cost | Cost per product
377 work-hours × $85 per hour = $32,045 | $6,187 | $38,232

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing airworthiness directive (AD) 2001-16-13, Amendment 39-12382 (66 FR 44295, August 23, 2001), and

b. Adding the following new AD:

2020-22-09 Airbus SAS: Amendment 39-21305; Docket No. FAA-2020-0970; Project Identifier AD-2020-01359-T.

(a) Effective Date

This AD is effective November 25, 2020.

(b) Affected ADs

This AD replaces AD 2001-16-13, Amendment 39-12382 (66 FR 44295, August 23, 2001) (“AD 2001-16-13”).

(c) Applicability

This AD applies to Airbus SAS Model A330-301, -321, -322, -323, -341, -342, and -343 airplanes, certificated in any category, except airplanes on which Airbus Industrie Modification 46636 has been accomplished in production or which have been modified in service as specified in Airbus Service Bulletin A330-53-3090.

(d) Subject

Air Transport Association (ATA) of America Code 53, Fuselage.

(e) Reason

This AD was prompted by a report that during fatigue testing on the fuselage, cracks were detected in the longitudinal buttstrap at stringer 9, at frame 31, and at frame 37.1. The FAA is issuing this AD to address fatigue cracking of the fuselage longitudinal buttstrap, which could result in reduced structural integrity of the fuselage.

(f) Compliance

Comply with this AD within the compliance times specified, unless already done.

(g) Retained Inspection, with New Service Information

This paragraph restates the requirements of paragraph (a) of AD 2001-16-13, with new service information. Prior to the accumulation of 15,000 total flight cycles: Perform a roto-test inspection to detect cracks of the fastener holes at frame 31, frame 37.1, and stringer 9, in accordance with Airbus Service Bulletin A330-53-3090, Revision 02, dated January 9, 2001; or Airbus Service Bulletin A330-53-3090, Revision 03, dated December 11, 2002.

(h) Retained Reinforcement, With New Service Information

This paragraph restates the requirements of paragraph (b) of AD 2001-16-13, with new service information. If no cracks are detected during the inspection performed in accordance with paragraph (g) of this AD, prior to further flight, reinforce the fuselage structure between frames 31 and 37.1, in accordance with Airbus Service Bulletin A330-53-3090, Revision 02, dated January 9, 2001; or Airbus Service Bulletin A330-53-3090, Revision 03, dated December 11, 2002.

(i) Retained Follow-Up Inspection and Repair, With New Service Information and Revised Repair Approval Language

This paragraph restates the requirements of paragraph (c) of AD 2001-16-13, with new service information and revised repair approval language. If any crack is detected during the inspection performed in accordance with paragraph (g) of this AD, prior to further flight, perform a high frequency eddy current (HFEC) inspection to determine the crack length, in accordance with Airbus Service Bulletin A330-53-3090, Revision 02, dated January 9, 2001; or Airbus Service Bulletin A330-53-3090, Revision 03, dated December 11, 2002. Prior to further flight, repair the crack in accordance with a method approved by the Direction Générale de l'Aviation Civile (or its delegated agent) or using a method approved by the Manager, Large Aircraft Section, International Validation Branch, FAA; or the European Union Aviation Safety Agency (EASA); or Airbus SAS's EASA Design Organization Approval (DOA). If approved by the DOA, the approval must include the DOA-authorized signature.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or the European Union Aviation Safety Agency (EASA); or Airbus SAS's EASA DOA. If approved by the DOA, the approval must include the DOA-authorized signature.

(3) Required for Compliance (RC): Except as required by paragraph (j)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) French airworthiness directive 2001-075(B), dated March 17, 2001, for related information. This MCAI may be found in the AD docket on the internet at https://www.regulations.gov by searching for and locating Docket No. FAA-2020-0970.

(2) For more information about this AD, contact Vladimir Ulyanov, Aerospace Engineer, Large Aircraft Section, International Validation Branch, FAA, 2200 South 216th St., Des Moines, WA 98198; telephone and fax 206-231-3229; email Vladimir.Ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 25, 2020.

(i) Airbus Service Bulletin A330-53-3090, Revision 03, dated December 11, 2002.

(ii) [Reserved]

(4) The following service information was approved for IBR on September 7, 2001 (66 FR 44295, August 23, 2001).

(i) Airbus Service Bulletin A330-53-3090, Revision 02, dated January 9, 2001.

(ii) [Reserved]

(5) For service information identified in this AD, contact Airbus SAS, Airworthiness Office—EAL, Rond-Point Emile Dewoitine No: 2, 31700 Blagnac Cedex, France; telephone +33 5 61 93 36 96; fax +33 5 61 93 45 80; email airworthiness.A330-A340@airbus.com; internet https://www.airbus.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fedreg.legal@nara.gov, or go to: https://www.archives.gov/federal-register/cfr/ibr-locations.html.

Issued on October 26, 2020.
Lance T. Gant,
Director, Compliance & Airworthiness Division, Aircraft Certification Service.

[FR Doc. 2020-24855 Filed 11-9-20; 8:45 am]

BILLING CODE 4910-13-P